EXPORT-IMPORT BANK OF THE U.S.

[Public Notice 2010-0047]

Agency Information Collection Activities: Final Collection; Comment Request

AGENCY: Export-Import Bank of the U.S.

ACTION: Submission for OMB Review and Comments Request.

Form Title: Application for Issuing Bank Credit Limit (IBCL) under Letter of Credit Insurance Policy.

SUMMARY: The Export-Import Bank of the United States (Ex-Im Bank), as a part of its continuing effort to reduce paperwork and respondent burden, invites the general public and other Federal Agencies to comment on the proposed information collection, as required by the Paperwork Reduction Act of 1995.

The Application for Issuing Bank Credit Limit (IBCL) under Letter of Credit Insurance Policy will be used to determine the eligibility of the issuing bank and the transaction for Export Import Bank assistance under its insurance program. Export Import Bank customers will be able to submit this form on paper or electronically.

The Export Import Bank has made changes to incorporate new information in the Certification and Notice sections of this form to clarify and expand to encompass broader anti-corruption certifications. In the Certification and Notice sections we rewrote some of the language for clarification, we corrected references to the debarment list, and we added references to the OFAC and the EPLS system. In addition, we clarified two questions about the amount of U.S. employment to be supported by this transaction.

DATES: Comments should be received on or before November 29, 2010 to be assured of consideration.

ADRESSES: Comments maybe submitted electronically on http://www.regulations.gov or by mail to Office of Information and Regulatory Affairs, 725 17th Street, NW., Washington, DC 20038 Attn: OMB 3048-0016.

SUPPLEMENTARY INFORMATION: Titles and Form Number: EIB 92-36 Application for Issuing Bank Credit Limit under Letter of Credit Insurance Policy.

OMB Number: 3048-0016.

Type of Review: Regular.

Need and Use: The Application for Issuing Bank Credit Limit under Letter of Credit Insurance Policy will be used to determine the eligibility of the issuing bank and the transaction for Export Import Bank assistance under its insurance program.

Sharon A. Whitt,
Agency Clearance Officer.

[FR Doc. 2010-27253 Filed 10-27-10; 8:45 am]

BILLING CODE 6690-01-P